DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On March 18, 2022, OFAC determined that the property and interests in property subject to U.S. jurisdiction of the following persons are blocked under the relevant sanctions authorities listed below.

Individuals

1. MOLINA MONTEJO, Werner Dario, Aldea Agua Zarca, Huehuetenango, Guatemala; Canton La Candelaria Z.0, La Democracia, Huehuetenango, Guatemala; DOB 12 Nov 1984; POB Santa Ana Huista, Huehuetenango, Guatemala; nationality Guatemala; Gender Male; Cedula No. Cedula: M-137560 (Guatemala); Passport 111331000075604 (Guatemala) issued 08 Feb 2007 expires 26 Oct 2012; NIT # 27751171 (Guatemala); Driver's License No. 20332679 (Guatemala); C.U.I. 1785205271331 (Guatemala) (individual) [ILLICIT-DRUGS-E.O.]. Sanctioned pursuant to section 1(b)(iii) of Executive Order 14059 of December 15, 2021, “Imposing Sanctions on Foreign Persons Involved in the Global Illicit Drug Trade,” (the “Order”), for being owned, controlled, or directed by, or having acted or purported to act for or on behalf of, directly or indirectly, LOS HUISTAS DRUG TRAFFICKING ORGANIZATION, a sanctioned person.

2. MOLINA LOPEZ, Eugenio Dario, La Democracia, Huehuetenango, Guatemala; Agua Zarca, Huehuetenango, Guatemala; Santa Ana Huista, Huehuetenango, Guatemala; San Antonio Huista, Huehuetenango, Guatemala; DOB 02 Jun 1964; POB Guatemala; nationality Guatemala; Gender Male; NIT # 6574734 (Guatemala); C.U.I. 1798585561331 (Guatemala) (individual) [ILLICIT-DRUGS-E.O.]. Sanctioned pursuant to section 1(a)(i) of the Order for having engaged in, or attempted to engage in, activities or transactions that have materially contributed to, or pose a significant risk of materially contributing to, the international proliferation of illicit drugs or their means of production.

3. MONTEJO SAENZ, Axel Bladimir (a.k.a. “MOSH”), Guatemala; DOB 26 Oct 1986; POB Santa Ana Huista, Huehuetenango, Guatemala; nationality Guatemala; Gender Male; Cedula No. M-138057 (Guatemala); NIT # 35348208 (Guatemala); C.U.I. 1613087591331 (Guatemala) (individual) [ILLICIT-DRUGS-E.O.]. Sanctioned pursuant to section 1(a)(i) of the Order for having engaged in, or attempted to engage in, activities or transactions that have materially contributed to, or pose a significant risk of materially contributing to, the international proliferation of illicit drugs or their means of production.

4. MORENO LOPEZ, Ervin Rene, Canton La Candelaria Z.0, La Democracia, Huehuetenango, Guatemala; DOB 26 Jan 1976; POB Guatemala; nationality Guatemala; Gender Male; NIT # 1654613K (Guatemala); C.U.I. 1596467901301 (Guatemala) (individual) [ILLICIT-DRUGS-E.O.]. Sanctioned pursuant to section 1(b)(iii) of the Order for being owned, controlled, or directed by, or having acted or purported to act for or on behalf of, directly or indirectly, LOS HUISTAS DRUG TRAFFICKING ORGANIZATION, a sanctioned person.

5. SALAZAR FLORES, Freddy Arnoldo (a.k.a. SALAZAR FLORES, Fredy Arnoldo; a.k.a. “BOICA”; a.k.a. “BOYCA”), Guatemala; DOB 14 Feb 1984; POB Guatemala; nationality Guatemala; Gender Male; NIT # 34746072 (Guatemala); C.U.I. 2639667390611 (Guatemala) (individual) [ILLICIT-DRUGS-E.O.]. Sanctioned pursuant to section 1(a)(i) of the Order for having engaged in, or attempted to engage in, activities or transactions that have materially contributed to, or pose a significant risk of materially contributing to, the international proliferation of illicit drugs or their means of production.

6. SAMAYOA MONTEJO, Roger Antulio (a.k.a. “TULI”), Guatemala; DOB 07 Oct 1989; POB Guatemala; nationality Guatemala; Gender Male; NIT # 72405902 (Guatemala); C.U.I. 2344272801331 (Guatemala) (individual) [ILLICIT-DRUGS-E.O.]. SAMAYOA MONTEJO, Roger Antulio (a.k.a. “TULI”), Guatemala; DOB 07 Oct 1989; POB Guatemala; nationality Guatemala; Gender Male; NIT # 72405902 (Guatemala); C.U.I. 2344272801331 (Guatemala) (individual) [ILLICIT-DRUGS-E.O.]. Sanctioned pursuant to section 1(b)(iii) of the Order for having acted or purported to act for or on behalf of, directly or indirectly, Aler Baldomero, SAMAYOA RECINOS and the LOS HUISTAS DRUG TRAFFICKING ORGANIZATION, all sanctioned persons.

7. SAMAYOA RECINOS, Aler Baldomero (a.k.a. “EL CHICHARRA”), Aldea Cuatro Caminos, Santa Ana Huista, Huehuetenango, Guatemala; Aldea Yuxen, Santa Ana Huista, Huehuetenango, Guatemala; DOB 27 Feb 1967; POB Santa Ana Huista, Huehuetenango, Guatemala; nationality Guatemala; Gender Male; Cedula No. M-1300003118 (Guatemala); Passport 111331000031186 (Guatemala) issued 12 Feb 2001 expires 03 Jul 2012; NIT # 5566568 (Guatemala); Driver's License No. 30791794 (Guatemala); C.U.I. 1892644891331 (Guatemala) (individual) [ILLICIT-DRUGS-E.O.]. Sanctioned pursuant to section 1(a)(i) of the Order for having engaged in, or attempted to engage in, activities or transactions that have materially contributed to, or pose a significant risk of materially contributing to, the international proliferation of illicit drugs or their means of production.

Entities

1. COMPRADORES Y EXPORTADORES DE CAFE CAPTZIN, SOCIEDAD ANONIMA (a.k.a. “COMEXCAFE”), Canton La Candelaria Z.0, La Democracia, Huehuetenango, Guatemala; NIT # 68897952 (Guatemala) [ILLICIT-DRUGS-E.O.]. Sanctioned pursuant to section 1(b)(iii) of the Order for having acted or purported to act for or on behalf of, directly or indirectly, Eugenio Dario MOLINA LOPEZ, a sanctioned person.

2. LOS HUISTAS DRUG TRAFFICKING ORGANIZATION (a.k.a. “LOS HUISTAS DTO”), Santa Ana Huista, Huehuetenango, Guatemala; San Antonio Huista, Huehuetenango, Guatemala; La Democracia, Huehuetenango, Guatemala; Target Type Criminal Organization [ILLICIT-DRUGS-E.O.]. Sanctioned pursuant to section 1(a)(i) of the Order for having engaged in, or attempted to engage in, activities or transactions that have materially contributed to, or pose a significant risk of materially contributing to, the international proliferation of illicit drugs or their means of production.

Dated: March 18, 2022.
Andrea M. Gacki,
Director, Office of Foreign Assets Control, U.S. Department of the Treasury.

[FR Doc. 2022-06143 Filed 3-22-22; 8:45 am]

BILLING CODE 4810-AL-P